FEDERAL COMMUNICATIONS COMMISSION

[Report No. 2387]

Petitions for Reconsideration and Clarification of Action in Rulemaking Proceeding

February 8, 2000.

Petitions for Reconsideration and Clarification have been filed in the Commission's rulemaking proceedings listed in this Public Notice and published pursuant to 47 CFR Section 1.429(e). The full text of these documents are available for viewing and copying in Room CY-A257, 445 12th Street, S.W., Washington, D.C. or may be purchased from the Commission's copy contractor, ITS, Inc. (202) 857-3800. Oppositions to these petitions must be filed by March 2, 2000. See Section 1.4(b)(1) of the Commission's rules (47 CFR 1.4(b)(1)). Replies to an opposition must be filed within 10 days after the time for filing oppositions has expired.

Subject: Amendment of the Commission's Regulatory Policies to Allow Non-U.S. Licensed Space Stations to Provide Domestic and International Satellite Service in the United States (IB Docket No. 96-111)

Number of Petitions Filed: 1

Subject: Amendment of Parts 21 and 74 to Enable Multipoint Distribution Service and Instructional Television Fixed Service Licensees to Engage in Fixed Two-way Transmissions (MM Docket No. 97-217, RM-9060)

Number of Petitions Filed: 7

Subject: 1998 Biennial Regulatory Review-Streamlining of Mass Media Applications, Rules, and Processes (MM Docket No. 98-43)

Policies and Rules Regarding Minority and Female Ownership of Mass Media Facilities (MM Docket No. 94-149)

Number of Petitions Filed: 2

Subject: Amendment of Parts 2 and 90 of the Commission's Rules to Allocate the 5.850-5.925HGZ Band to the Mobile Service for Dedicated Short Range Communications (“DSRC”) of Intelligent Transportation Services (ET Docket No. 98-95, RM-9096)

Number of Petitions Filed: 2

Subject: Interconnection and Resale Obligations Pertaining to Commercial Mobile Radio Services, (WT Docket No. 98-100, CC Docket No. 94-54)

Number of Petitions Filed: 1

Subject: 1998 Biennial Regulatory Review Spectrum Aggregation Limits for Wireless Telecommunications Carriers (WT Docket No. 98-205)

Cellular Telecommunications Industry Association's Petition for Forbearance From the 45 MHz CMRS Spectrum Cap

Amendment of Parts 20 and 24 of the Commission's Rules-Broadband PCS Competitive Bidding and Commercial Mobile Radio Service Spectrum Cap (WT Docket No. 96-59)

Implementation of Section 3(n) and 322 of the Communications Act (GN Docket No. 93-252)

Regulatory Treatment of Mobile Service

Number of Petitions Filed: 3

Federal Communications Commission.
Magalie Roman Salas,
Secretary.

[FR Doc. 00-3647 Filed 2-15-00; 8:45 am]

BILLING CODE 6712-01-M